DEPARTMENT OF COMMERCE

International Trade Administration

[A-427-098]

Anhydrous Sodium Metasilicate From France: Amended Final Results of Antidumping Administrative Review

AGENCY: Import Administration, International Trade Administration, Department of Commerce.

ACTION: Amended final results of antidumping administrative review.

EFFECTIVE DATE: November 19, 2001.

FOR FURTHER INFORMATION CONTACT: Dunyako Ahmadu or Richard Rimlinger, Office of Antidumping/Countervailing Duty Enforcement 3, Import Administration, International Trade Administration, U.S. Department of Commerce, 14th Street and Constitution Avenue, NW., Washington, DC 20230; telephone (202) 482-0198 or (202) 482-4477, respectively.

SUMMARY: On October 22, 2001, the Department of Commerce published the final results of the administrative review of the antidumping duty order on anhydrous sodium metasilicate from France for the period January 1, 2000, through December 31, 2000. However, we neglected to identify Rhodia HCPII (formerly known as Rhone Poulenc, S.A.), which is now the entity manufacturing subject merchandise in France. The purpose of these amended final results is to correct this ministerial error.

Amendment to the Final Results

On October 22, 2001, the Department of Commerce (the Department) published the final results of the administrative review of this order in the Federal Register (66 FR 53387). See Notice of Final Results of Antidumping Duty Administrative Review (October 22, 2001). In the final results, we determined the weighted-average dumping margin for the period January 1, 2000, through December 31, 2000, to be 60.00 percent for Rhone-Poulenc, S.A. However, we did not correctly identify Rhodia HCPII (Rhodia), formerly Rhone Poulenc, S.A. Rhodia was formed as a result of a merger between Rhone Poulenc, S.A., and Hoechst. Rhodia is now the entity manufacturing the subject merchandise in France. In our preliminary results, Rhodia was correctly identified as the sole producer/exporter of subject merchandise covered by the review. See Federal Register (66 FR 42199). The purpose of these amended final results is to correct this omission.

Furthermore, the Department will issue appraisement instructions for Rhodia directly to the Customs Service. Regarding all shipments of the subject merchandise entered, or withdrawn from warehouse, for consumption on or after October 22, 2001, as provided for by section 751(a)(1) of the Act of 1930, as amended: (1) The cash deposit rate for Rhodia will be 60.00 percent; (2) for previously reviewed or investigated companies not listed above, the cash deposit rate will continue to be the company-specific rate published for the most recent period; (3) if the exporter is not a firm covered in this review, a prior review, or the original less-than-fair-value (LTFV) investigation, but the manufacturer is, the cash deposit rate will be the rate established for the most recent period for the manufacturer of the merchandise; and (4) for all other producers and/or exporters of this merchandise, the cash deposit rate shall be 60.0 percent, the “all others” rate established in the LTFV investigation (45 FR 77498, November 24, 1980). These deposit rates shall remain in effect until publication of the final results of the next administrative review.

We are issuing and publishing this amendment to the final results in accordance with section 751(h) of the Tariff Act of 1930, as amended.

Dated: November 9, 2001.
Faryar Shirzad,
Assistant Secretary for Import Administration.

[FR Doc. 01-28862 Filed 11-16-01; 8:45 am]

BILLING CODE 3510-DS-P